FEDERAL COMMUNICATIONS COMMISSION

47 CFR Part 73

[DA No. 01-1184, MM Docket No. 00-69, RM-9850, RM-9945 and 9946]

Radio Broadcasting Services; Cheboygan, Rogers City, Bear Lake, Bellaire, Rapid River, Manistique, Ludington, Walhalla & Onaway, MI

AGENCY: Federal Communications Commission.

ACTION: Proposed rule.

SUMMARY: The Commission, in response to the counterproposal filed by D&B and Fort Bend Broadcasting Company proposing changes at Rogers City, Bear Lake, Bellaire, Rapid River, Manistique, Ludington, Walhalla & Onaway, Michigan, issues an Order to Show Cause to the licensee of Station WKLA, Ludington, Michigan, as to why its license should not be modified to specify operation on Channel 254A in lieu of Channel 292A. The counterproposal was filed in response to the Notice of Proposed Rule Making and Order to Show Cause which proposed the allotment of Channel 260C2 at Cheboygan, Michigan, and the substitution of Channel 292C2 for Channel 260C2 at Rogers City, Michigan. See 65 FR 30588, May 12, 2000.

DATES: Comments must be filed on or before July 2, 2001.

ADDRESSES: Federal Communications Commission, Washington, DC 20554.

FOR FURTHER INFORMATION CONTACT: Kathleen Scheuerle, Mass Media Bureau, (202) 418-2180.

SUPPLEMENTARY INFORMATION: This is a summary of the Commission's Order to Show Cause, MM Docket No. 00-69, adopted May 2, 2001, and released May 11, 2001. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Michigan, is amended by removing Channel 292A and adding Channel 254A at Ludington.

Federal Communications Commission.
John A. Karousos,
Chief, Allocations Branch, Policy and Rules Division, Mass Media Bureau.

[FR Doc. 01-14020 Filed 6-5-01; 8:45 am]

BILLING CODE 6712-01-P